NUCLEAR REGULATORY COMMISSION

[NRC-2011-0148]

Proposed Ross Project in Crook County Wyoming for In-Situ Leach Uranium Milling Facilities

AGENCY: Nuclear Regulatory Commission.

ACTION: Final supplemental environmental impact statement; issuance.

SUMMARY: Notice is hereby given that the U.S. Nuclear Regulatory Commission (NRC) published the Final Supplemental Environmental Impact Statement (SEIS) (NUREG-1910, Supplement 5) for the Ross In-Situ Uranium Recovery (ISR) Project (Ross Project). By letter dated January 4, 2011, Strata Energy, Inc. (Strata) submitted an application to the NRC for a new source and byproduct materials license for the Ross Project, which Strata proposes to be located in Crook County, Wyoming. Strata is proposing to recover uranium from the Ross Project site using the ISR process.

ADDRESSES: Please refer to Docket ID NRC-2011-0148 when contacting the NRC about the availability of information regarding this document. You may access publicly-available information related to this action by the following methods:

• Federal Rulemaking Web site: Go to: http://www.regulations.gov and search for Docket ID NRC-2011-0148. Address questions about NRC dockets to Ms. Carol Gallagher; telephone: 301-287-3422; email: Carol.Gallagher@nrc.gov. For technical questions, contact the individual listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, or 301-415-4737, or by email to pdr.resource@nrc.gov. The ADAMS accession number for each document referenced in this notice (if that document is available in ADAMS) is provided the first time that a document is referenced. The Final SEIS (NUREG-1910, Supplement 5) is available in ADAMS under Accession No. ML14056A096.

• NRC's PDR: You may examine and purchase copies of public documents at the NRC's PDR, Room O1-F21, One White Flint North, 11555 Rockville Pike, Rockville, Maryland 20852.

FOR FURTHER INFORMATION CONTACT: Johari Moore, Office of Federal and State Materials and Environmental Management Programs, U.S. Nuclear Regulatory Commission, Washington, DC 20555-0001; telephone: 301-415-7694, email: Johari.Moore@nrc.gov.

SUPPLEMENTARY INFORMATION: Under the NRC's environmental protection regulations in Part 51 of Title 10 of the Code of Federal Regulations (10 CFR), that implement the National Environmental Policy Act of 1969 (NEPA), preparation of an Environmental Impact Statement (EIS) or supplement to an EIS (SEIS) is required for issuance of a license to possess and use source material for uranium milling (see 10 CFR 51.20(b)(8)).

In May 2009, the NRC staff issued NUREG-1910, “Generic Environmental Impact Statement for In-Situ Leach Uranium Milling Facilities” (herein referred to as the GEIS). In the GEIS, NRC assessed the potential environmental impacts from construction, operation, aquifer restoration, and decommissioning of an ISR facility located in four specific geographic regions of the western United States. The proposed Ross Project is located within the Nebraska-South Dakota-Wyoming Uranium Milling Region identified in the GEIS. This Final SEIS supplements the GEIS and incorporates by reference relevant portions from the GEIS, and uses site-specific information from the applicant's license application and other independent sources to fulfill the requirements in 10 CFR 51.20(b)(8).

The Final SEIS was prepared in response to an application submitted by Strata by letter dated January 4, 2011. The applicant proposes the construction, operation, aquifer restoration, and decommissioning of an ISR facility to recover uranium.

The Final SEIS was prepared by the NRC and its contractor, Attenuation Environmental Company (AEC), in cooperation with the U.S. Bureau of Land Management (BLM), in compliance with NEPA, and the NRC's regulations for implementing NEPA (10 CFR Part 51).

The proposed Ross Project will be located approximately 34.6 kilometers (km) (21.5 miles [mi]) north of the town of Moorcroft, Wyoming. The proposed facility would encompass approximately 697 hectares (ha) (1,721 acres [ac]).

The Final SEIS is being issued as part of the NRC's process to decide whether to issue a license to Strata pursuant to 10 CFR Part 40. In this Final SEIS, the NRC staff has assessed the potential environmental impacts from the construction, operation, aquifer restoration, and decommissioning of the proposed Ross Project. The NRC staff assessed the impacts of the proposed action and its alternatives on land use; historical and cultural resources; visual and scenic resources; climatology, meteorology and air quality; geology, minerals and soils; water resources; ecological resources; socioeconomics; environmental justice; noise; traffic and transportation; public and occupational health and safety; and waste management. Additionally, the Final SEIS analyzes and compares the benefits and costs of the proposed action. In preparing this Final SEIS, the NRC staff also considered, evaluated, and addressed the public comments received on the Draft SEIS published on March 29, 2013 (78 FR 19330). Appendix B of the Final SEIS captures the public's comments and the NRC's responses.

In preparing the Final SEIS, the NRC staff evaluated site-specific data and information from the Ross Project to determine if Strata's proposed activities and the site characteristics were consistent with those evaluated in the GEIS. The NRC then determined which relevant sections of, and impact conclusions in, the GEIS could be incorporated by reference. The NRC staff also determined if additional data or analysis was needed to assess the potential environmental impacts for a specific environmental resource area. The NRC documented its assessments and conclusions in the Final SEIS.

In addition to the action proposed by Strata, the NRC staff addressed the no-action alternative, as well as the North Ross site alternative, in which the central processing plant (CPP), auxiliary and support buildings and structures, and surface impoundments would be located at a different location to the north of the Proposed Project. All the alternatives were analyzed in detail. The no-action alternative serves as a baseline for comparison of the potential environmental impacts of the proposed action.

After weighing the impacts of the proposed action and comparing the alternatives, the NRC staff, in accordance with 10 CFR 51.91(d), sets forth its recommendation regarding the proposed action. Unless safety issues mandate otherwise, the NRC staff recommends that the proposed action be approved (i.e., the NRC should issue a source material license for the proposed Ross Project).

The Final SEIS for the proposed Ross Project may also be accessed on the internet at http://www.nrc.gov/reading-rm/doc-collections/nuregs/staff/ by selecting “NUREG-1910” and then “Supplement 5.” Additionally, a copy of the Final SEIS will be available at the following public libraries:

Crook County Library, Hulett Branch, 401 Sager Street, Hulett, WY 82720.

Crook County Library, Moorcroft Branch, 105 East Converse, Moorcroft, WY 82721.

Dated at Rockville, Maryland, this day 27 of February 2014.
For the Nuclear Regulatory Commission.
Aby Mohseni,
Deputy Director, Environmental Protection and Performance Assessment Directorate, Division of Waste Management and Environmental Protection, Office of Federal and State Materials and Environmental Management Programs.

[FR Doc. 2014-05260 Filed 3-10-14; 8:45 am]

BILLING CODE 7590-01-P